DEPARTMENT OF COMMERCE

National Oceanic and Atmospheric Administration

[RTID 0648-XE571]

South Atlantic Fishery Management Council; Public Meetings

AGENCY: National Marine Fisheries Service (NMFS), National Oceanic and Atmospheric Administration (NOAA), Commerce.

ACTION: Notice of a public meeting.

SUMMARY: The South Atlantic Fishery Management Council (Council) will hold a meeting of the Ad Hoc For-Hire Reporting Advisory Panel in January.

DATES: The Ad Hoc For-Hire Reporting Advisory Panel meeting will be held via webinar on January 29, 2025. The meeting will be held from 1 p.m. until 5 p.m., EST.

ADDRESSES:

Meeting address: The meeting will be held via webinar. The webinar is open to members of the public. Registration is required. Webinar registration, an online public comment form, and briefing book materials will be available two weeks prior to the meeting at: https://safmc.net/advisory-panel-meetings/.

Council address: South Atlantic Fishery Management Council, 4055 Faber Place Drive, Suite 201, N Charleston, SC 29405.

FOR FURTHER INFORMATION CONTACT: Myra Brouwer, Deputy Director for Management, SAFMC; phone: (843) 571-4366 or toll free: (866) SAFMC-10; fax: (843) 769-4520; email: myra.brouwer@safmc.net.

SUPPLEMENTARY INFORMATION: The Ad Hoc For-Hire Reporting Advisory Panel will discuss potential actions to improve the Southeast For-Hire Integrated Electronic Reporting (SEFHIER) Program.

Special Accommodations

The meeting is physically accessible to people with disabilities. Requests for auxiliary aid should be directed to the Council office (see ADDRESSES) 10 days prior to the meeting.

Note: The times and sequence specified in this agenda are subject to change.

Authority: 16 U.S.C. 1801 et seq.

Dated: January 8, 2025.
Rey Israel Marquez,
Acting Deputy Director, Office of Sustainable Fisheries, National Marine Fisheries Service.

[FR Doc. 2025-00652 Filed 1-14-25; 8:45 am]

BILLING CODE 3510-22-P